ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC on Tuesday and Wednesday, March 11-12, 2003, at the times and location noted below.

DATES: The schedule of events is as follows:

Tuesday, March 11, 2003

1:30-5 p.m.—Passenger Vessels Ad Hoc Committee (closed session).

Wednesday, March 12, 2003

9-10:30 a.m.—Public Rights-of-Way Ad Hoc Committee (closed session).

10:30-11:30 a.m.—Planning and Budget Committee.

11:30-12:30 p.m.—Technical Programs Committee.

2-3:30 p.m.—Board meeting.

ADDRESSES: The meetings will be held at the Marriott at Metro Center Hotel, 775 12th Street, NW., Washington, DC.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

Open Meeting

• Approval of the January 15, 2003, Board meeting minutes;

• Technical Programs Committee Report;

• Planning and Budget Committee Report;

• Election of officers.

Closed Meeting

• Passenger Vessels Accessibility Guidelines;

• Public Rights-of-Way Accessibility Guidelines.

All meetings are accessible to persons with disabilities. Sign language interpreters and an assistive listening system are available at all meetings. Persons attending Board meetings are requested to refrain from using perfume, cologne, and other fragrances for the comfort of other participants.

Elizabeth A. Stewart,
Deputy General Counsel.

[FR Doc. 03-5117 Filed 3-4-03; 8:45 am]

BILLING CODE 8150-01-P